DEPARTMENT OF TRANSPORTATION

Federal Aviation Administration

14 CFR Part 39

[Docket No. FAA-2019-0253; Product Identifier 2019-NM-006-AD]

RIN 2120-AA64

Airworthiness Directives; Airbus SAS Airplanes

AGENCY: Federal Aviation Administration (FAA), DOT.

ACTION: Notice of proposed rulemaking (NPRM).

SUMMARY: We propose to supersede Airworthiness Directive (AD) 2016-07-22, which applies to all Airbus SAS Model A300 B4-600, B4-600R, and F4-600R series airplanes, and Model A300 C4-605R Variant F airplanes (collectively called Model A300-600 series airplanes), and Model A310 series airplanes. AD 2016-07-22 requires modifying the electrical routing installation at the right-hand (RH) and left-hand (LH) wings to achieve a minimum distance between wiring bundles and surrounding structures. Since we issued AD 2016-07-22, we received reports of missing installation information for certain airplanes. This proposed AD would retain the requirements of AD 2016-07-22 and, for certain airplanes, add a requirement to further modify the electrical installations in both wings, as specified in an European Aviation Safety Agency (EASA) AD, which will be incorporated by reference. We are proposing this AD to address the unsafe condition on these products.

DATES: We must receive comments on this proposed AD by June 21, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the incorporation by reference (IBR) material described in the “Related IBR material under 1 CFR part 51” section in SUPPLEMENTARY INFORMATION, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2019-0253; or in person at Docket Operations between 9 a.m. and 5 p.m., Monday through Friday, except Federal holidays. The AD docket contains this NPRM, the regulatory evaluation, any comments received, and other information. The street address for Docket Operations (telephone 800-647-5527) is in the ADDRESSES section. Comments will be available in the AD docket shortly after receipt.

FOR FURTHER INFORMATION CONTACT: Dan Rodina, Aerospace Engineer, International Section, Transport Standards Branch, FAA, 2200 South 216th St., Des Moines, WA 98198; telephone and fax 206-231-3225.

SUPPLEMENTARY INFORMATION:

Comments Invited

We invite you to send any written relevant data, views, or arguments about this proposal. Send your comments to an address listed under the ADDRESSES section. Include “Docket No. FAA-2019-0253; Product Identifier 2019-NM-006-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

We issued AD 2016-07-22, Amendment 39-18467 (81 FR 21236, April 11, 2016) (“AD 2016-07-22”), for all Model A300-600 series airplanes and Model A310 series airplanes. AD 2016-07-22 requires modifying the electrical routing installation at the RH and LH wings. AD 2016-07-22 resulted from reports of insufficient clearance for the electrical wiring bundles in the leading and trailing edges of the RH and LH wings. We issued AD 2016-07-22 to address insufficient clearance between wing structures and electrical wiring, which could lead to chafing damage and arcing, possibly resulting in an on-board fire.

Actions Since AD 2016-07-22 Was Issued

Since we issued AD 2016-07-22, we received reports of missing installation information for certain airplanes on which Airbus Service Bulletin A300-24-6103, Revision 03, dated July 3, 2015, was used.

EASA, which is the Technical Agent for the Member States of the European Union, has issued EASA AD 2019-0014, dated January 29, 2019 (“EASA AD 2019-0014”) (also referred to as the Mandatory Continuing Airworthiness Information, or “the MCAI”), to correct an unsafe condition for all Model A300-600 series airplanes and Model A310 series airplanes. The MCAI states:

Following publication of Federal Aviation Administration SFAR 88 (Special Federal Aviation Regulation 88), EASA issued AD 2006-0076 requiring inspection and corrective action to improve the explosion risk protection system for the left hand (LH) and right hand (RH) wings on A300, A300-600, A300-600ST and A310 aeroplanes. For A300-600, A300-600ST and A310 aeroplanes, the required detailed visual inspections of electrical bundles located in the leading and trailing edges of the RH and LH wings and a review of the wing electrical installation on the final assembly line have shown that the wing electrical installation does not comply with the minimum distance inspection criteria to the surrounding structure in a few wing locations.

This condition, if not detected and corrected, could lead to damage on the electrical harnesses and on the surrounding structure.

To address this unsafe condition, Airbus developed an improvement of the wing electrical installation to prevent possible chafing and subsequent damage to the electrical harnesses and surrounding structure. Consequently, EASA issued AD 2014-0034 to require installation of new bracket assemblies to ensure the clearance between the wiring and the structure, and installation of protective split sleeves as mechanical protection to the electrical harnesses.

After EASA AD 2014-0034 was issued, during embodiment of Airbus SB [service bulletin] A300-24-6103 Revision 02 on an aeroplane, an installation problem was identified, which prompted Airbus to revise SB A300-24-9014 Revision 01, and SB A300-24-6103 Revision 02. In addition, SB Information Transmission (SBIT) 14-0044 Revision 01 was issued to recommend to postpone embodiment of these two SBs, and to wait for the availability of Airbus SB A300-24-9014 Revision 02 and SB A300-24-6103 Revision 03. Subsequently, EASA issued AD 2015-0176, retaining the requirements of EASA AD 2014-0034, which was superseded, and requiring in addition, for A300-600 and A300-600ST aeroplanes only, installation of new bracket assemblies in shroud box (LH and RH side) to ensure adequate clearance between wirings and flap track carriage (LH and RH side).

After EASA AD 2015-0176 was issued, some operators reported that Airbus SB A300-24-6103 Revision 03 could not been implemented, due to missing installation information. Airbus supported the affected operators by providing the necessary installation information, and issued Airbus SB A300-24-6103 at Revision 04 to provide adequate installation information. Consequently, EASA issued AD 2016-0172, retaining the requirement of EASA AD 2015-0176, which was superseded, and requiring additional work for certain A300-600 aeroplanes.

Since EASA AD 2016-0172 was issued, Airbus SB A300-24-6103 Revision 05 was issued to include two sets of additional work which were not clearly defined in Revision 04:

• Additional Work identified as A1 in the applicable SB is related to the installation of spacers to the guide Assembly for Group 1 and Group 3 aeroplanes (these spacers were removed at SB A300-24-6103 Revision 03).

• Additional Work identified as A2 in the applicable SB is related to the modification of the Clamp on the routing on Rib 1 on the passage way to the shroud box LH and RH sides, for Group 3 aeroplanes. SB A300-24-6103 Revision 04 instructed operators to contact Airbus for the clamps installation, and Revision 05 describes this additional work.

For the reason described above, this [EASA] AD retains the requirements of the EASA AD 2016-0172, which is superseded, and requires implementation of additional work on certain A300-600 aeroplanes.

Explanation of Retained Requirements

Although this proposed AD does not explicitly restate the requirements of AD 2016-07-22, this proposed AD would retain all of the requirements of AD 2016-07-22. Those requirements are referenced in EASA AD 2019-0014, which, in turn, is referenced in paragraph (g) of this proposed AD.

Related IBR Material Under 1 CFR Part 51

EASA AD 2019-0014 describes procedures for modifying the electrical installations in both wings (RH and LH). This material is reasonably available because the interested parties have access to it through their normal course of business or by the means identified in the ADDRESSES section, and it is publicly available through the EASA website.

FAA's Determination and Requirements of This Proposed AD

This product has been approved by the aviation authority of another country, and is approved for operation in the United States. Pursuant to our bilateral agreement with the State of Design Authority, we have been notified of the unsafe condition described in the MCAI referenced above. We are proposing this AD because we evaluated all pertinent information and determined an unsafe condition exists and is likely to exist or develop on other products of the same type design.

Proposed Requirements of This NPRM

This proposed AD would require accomplishing the actions specified in EASA AD 2019-0014 described previously, as incorporated by reference, except for any differences identified as exceptions in the regulatory text of this AD.

Explanation of Required Compliance Information

In the FAA's ongoing efforts to improve the efficiency of the AD process, the FAA worked with Airbus and EASA to develop a process to use certain EASA ADs as the primary source of information for compliance with requirements for corresponding FAA ADs. As a result, EASA AD 2019-0014 will be incorporated by reference in the FAA final rule. This proposed AD would, therefore, require compliance with the provisions specified in EASA AD 2019-0014, except for any differences identified as exceptions in the regulatory text of this proposed AD. Service information specified in EASA AD 2019-0014 that is required for compliance with EASA AD 2019-0014 will be available on the internet http://www.regulations.gov by searching for and locating Docket No. FAA-2019-0253 after the FAA final rule is published.

Costs of Compliance

We estimate that this proposed AD affects 123 airplanes of U.S. registry. We estimate the following costs to comply with this proposed AD:

Estimated Costs for Required Actions
Action | Labor cost | Parts cost | Cost per product | Cost on U.S. operators
Retained actions from AD 2016-07-22 | 56 work-hours × $85 per hour = $4,760 | Up to $18,000 | Up to $22,760 | Up to $2,799,480.
New proposed actions | Up to 38 work-hours × $85 per hour = $3,230 | Up to $29,547 | Up to $32,777 | Up to $4,031,571.

According to the manufacturer, some or all of the costs of this proposed AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-07-22, Amendment 39-18467 (81 FR 21236, April 11, 2016) (“AD 2016-07-22”), and adding the following new AD:

Airbus SAS: Docket No. FAA-2019-0253; Product Identifier 2019-NM-006-AD.

(a) Comments Due Date

We must receive comments by June 21, 2019.

(b) Affected ADs

This AD replaces AD 2016-07-22, Amendment 39-18467 (81 FR 21236, April 11, 2016) (“AD 2016-07-22”).

(c) Applicability

This AD applies to all Airbus SAS airplanes identified in paragraphs (c)(1), (c)(2), (c)(3), (c)(4), and (c)(5) of this AD, certificated in any category.

(1) Model A300 B4-601, B4-603, B4-620, and B4-622 airplanes.

(2) Model A300 B4-605R and B4-622R airplanes.

(3) Model A300 F4-605R and F4-622R airplanes.

(4) Model A300 C4-605R Variant F airplanes.

(5) Model A310-203, -204, -221, -222, -304, -322, -324, and -325 airplanes.

(d) Subject

Air Transport Association (ATA) of America Code 24, Electrical power.

(e) Reason

This AD was prompted by reports of insufficient clearance for the electrical wiring bundles in the leading and trailing edges of the right-hand (RH) and left-hand (LH) wings. We are issuing this AD to address insufficient clearance between wing structures and electrical wiring, which could lead to chafing damage and arcing, possibly resulting in an on-board fire.

(f) Compliance

Comply with this AD within the compliance times specified, unless already done.

(g) Requirements

Except as specified in paragraph (h) of this AD: Comply with all required actions and compliance times specified in, and in accordance with, European Aviation Safety Agency (EASA) AD 2019-0014, dated January 29, 2019 (“EASA AD 2019-0014”).

(h) Exceptions to EASA AD 2019-0014

(1) For purposes of determining compliance with the requirements of this AD: Where EASA AD 2019-0014 refers to its effective date, this AD requires using the effective date of this AD.

(2) Where paragraph (1) of EASA AD 2019-0014 specifies a compliance time of “Within 36 months after 19 February 2014,” for this AD, the compliance time for that paragraph is “Within 30 months after May 16, 2016 (the effective date of AD 2016-07-22).”

(3) Where paragraph (3) of EASA AD 2019-0014 specifies a date of “06 September 2016,” for this AD, use “May 16, 2016 (the effective date of AD 2016-07-22).”

(4) For Group 1 and 3 airplanes: This paragraph provides credit for actions required by paragraph (1) of EASA AD 2019-0014, if those actions were performed before the effective date of this AD using Airbus Service Bulletin A300-24-6103, Revision 03, dated July 3, 2015, provided that the additional work specified in paragraphs (6) and (7) of EASA AD 2019-0014 is accomplished.

(5) The “Remarks” section of EASA AD 2019-0014 does not apply to this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0014 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

(1) For information about EASA AD 2019-0014, contact EASA, Konrad-Adenauer-Ufer 3, 50668 Cologne, Germany; telephone +49 221 89990 6017; email ADs@easa.europa.eu; Internet www.easa.europa.eu. You may find this EASA AD on the EASA website at https://ad.easa.europa.eu. You may view this EASA AD at the FAA, Transport Standards Branch, 2200 South 216th St., Des Moines, WA. For information on the availability of this material at the FAA, call 206-231-3195. EASA AD 2019-0014 may be found in the AD docket on the internet at http://www.regulations.gov by searching for and locating Docket No. FAA-2019-0253.

(2) For more information about this AD, contact Dan Rodina, Aerospace Engineer, International Section, Transport Standards Branch, FAA, 2200 South 216th St., Des Moines, WA 98198; telephone and fax 206-231-3225.

Issued in Des Moines, Washington, on April 25, 2019.
Michael Kaszycki,
Acting Director, System Oversight Division, Aircraft Certification Service.

[FR Doc. 2019-09266 Filed 5-6-19; 8:45 am]

BILLING CODE 4910-13-P